DEPARTMENT OF THE INTERIOR

Bureau of Reclamation

San Luis Unit Feature Reevaluation, Central Valley Project, CA

AGENCY: Bureau of Reclamation, Interior.

ACTION: Notice of intent to prepare an environmental impact statement (EIS).

SUMMARY: The Department of the Interior, Bureau of Reclamation (Reclamation), will prepare an EIS, pursuant to the National Environmental Policy Act (NEPA), to evaluate proposed actions to provide long-term drainage service to the San Luis Unit (SLU) of the Central Valley Project (CVP). Proposed drainage service alternatives will be selected on the basis of criteria adopted to maintain environmental quality and provide for continued agricultural production in a manner consistent with the Plan of Action filed April 18, 2001, in Sumner Peck Ranch, Inc., et al., v. Bureau of Reclamation, et al.

DATES: Two scoping meetings will be held to solicit comments from interested parties to assist in determining the scope of the environmental analysis and to identify the significant issues related to this proposed action. The meeting dates are:

• Wednesday, November 14, 2001, 10 a.m. to 12 p.m., Fresno, California

• Thursday, November 15, 2001, 1:30 p.m. to 3:30 p.m., Concord, California

Written comments on the scope of the environmental document should be mailed to Reclamation at the address below by November 30, 2001.

ADDRESSES: The meeting locations are as follows:

• Fresno at Piccadilly Inn University, Broadmoor Room, 4961 N. Cedar Avenue

• Concord at Hilton Hotel, Seminar 4 Room, 1970 Diamond Boulevard

Written comments on the scope of the alternatives and impacts to be considered should be sent to Mr. Michael Delamore, Bureau of Reclamation, South-Central California Area Office, 1243 N Street, Fresno CA 93721-1813; or by telephone at (559) 487-5039; or faxed to (559) 487-5130 (TDD 559-487-5933).

FOR FURTHER INFORMATION CONTACT: Mr. Jason Phillips, Bureau of Reclamation, Division of Planning, 2800 Cottage Way, Sacramento, CA 95825 or by telephone at (559) 487-5070 (TDD 916-978-5608).

SUPPLEMENTARY INFORMATION: The Act of June 3, 1960 (Pub. L. No. 88-488), which authorized the construction, operation, and maintenance of the SLU, provided for the construction of San Luis Dam, San Luis Canal, Coalinga Canal, San Luis Drain (SLD), distribution systems, drains, pumping facilities, and other appurtenant works. The authorization provided for joint development with the State of California. The State agreed to provide 55 percent of the construction, operation, and maintenance costs of the main project facilities and agreed to operate those facilities as a part of both the CVP and the California State Water Project. SLU construction started in 1963 and the first significant water deliveries began in 1968. SLU facilities can provide about 1.4 million acre-feet of water annually to CVP water users. With the implementation of the Central Valley Project Improvement Act and Endangered Species Act protections, the actual average deliveries have been reduced by nearly 50 percent. Initial SLU project planning recognized the need to provide drainage service to protect lands from rising water tables and accumulation of salts which would otherwise render the soil unsuitable for farming. The authorizing legislation provided for the construction of an interceptor drain that would serve the SLU area and discharge to the Sacramento-San Joaquin Delta. Reclamation began construction of the SLD in 1968. By 1975, 83 miles of the planned 188-mile SLD had been completed, and 1,283 acres of shallow ponds (later named Kesterson Reservoir) were constructed about 80 miles south of the Delta to provide temporary storage to facilitate future control of the SLD flow into the Delta. Construction was then suspended pending determination of the final point of discharge for the SLD. During the ensuing years, Kesterson Reservoir received drain water and functioned as an evaporation facility while studies and investigations continued concerning a final point of discharge. In 1984, waterfowl deaths and deformities at Kesterson were linked to elevated levels of selenium in the food chain. In 1985, the State Water Resources Control Board directed Reclamation to clean up and abate the conditions at Kesterson. The Department of the Interior announced that Kesterson would be closed, and a phased elimination of SLD discharges was completed by June 1986.

In 1990, the San Joaquin Valley Drainage Program (SJVDP) published A Management Plan For Agricultural Subsurface Drainage and Related Problems on the Westside San Joaquin Valley. This report, which was prepared based on a major State-Federal interagency investigation of the drainage problems, recommended a series of “in-valley” drainage management actions. In 1991, pursuant to a stipulated judgment in a lawsuit regarding the rights and responsibilities of CVP water users in Westlands Water District, Reclamation published a Draft Environmental Impact Statement on a proposed drainage plan for the SLU that was based on and consistent with the SJVDP report recommendations. That plan, however, was not finalized. In a subsequent lawsuit, (Sumner Peck Ranch v. Bureau of Reclamation), the Court directed Reclamation to apply to the California State Water Resources Control Board for a discharge permit in order to complete the SLD to the Sacramento-San Joaquin Delta as was contemplated in Pub. L. No. 88-488. Upon appeal to the 9th Circuit Court of Appeals, the Appellate Court affirmed the District Court's conclusion that the United States must act promptly to provide drainage service, but reversed that part of the District Court judgment that foreclosed non-interceptor drain solutions.

Reclamation has been engaged for many years with other State and Federal agencies as well as farmers, water districts, and stakeholders, to develop effective, affordable, and implementable drainage service and drainage management solutions. Several of these efforts have resulted in innovative and promising drainage management techniques, and Reclamation is committed to continuing to support development of those approaches. However, the only proven technologies that have been identified to date to provide long-term drainage service and achieve sustainable salt balance on drainage-affected, irrigated lands in Westlands Water District are disposal of salts out of valley via completion and operation of the SLD or disposal to evaporation ponds. Therefore, alternatives incorporating those technologies, as well as other approaches identified during scoping, will be considered in the analysis.

The environmental review will be conducted pursuant to NEPA, the Endangered Species Act and other applicable laws, to analyze the potential environmental impacts of implementing each of the feasible alternative means of providing drainage service to lands within the SLU. All reasonable alternatives as required by NEPA and its implementing regulations will be examined. Draft EISs prepared in the early 1980's and in 1991 for drainage solutions to the SLU will provide a useful beginning, thus allowing Reclamation to expedite completion of the analysis. Alternatives, with their related designs and cost estimates identified in these earlier efforts, will be re-evaluated and updated to reflect current conditions. Public input on additional alternatives, or combinations of alternatives, that should be considered will be sought through the initial scoping meetings. In addition, public input will be sought on the criteria that should be used to carry forward alternatives, or combination of alternatives, for further consideration.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety

Dated: September 14, 2001.
Laura Allen,
Deputy Regional Environmental Officer.

[FR Doc. 01-24564 Filed 10-1-01; 8:45 am]

BILLING CODE 4310-MN-P